DEPARTMENT OF THE INTERIOR

Fish and Wildlife Service

[Docket No. FWS-R3-ES-2024-0070; FXES11140300000-245-FF03E00000]

Draft Environmental Assessment and Proposed Habitat Conservation Plan; Receipt of an Application for an Incidental Take Permit; Alliant Energy, Iowa and Minnesota

AGENCY: Fish and Wildlife Service, Interior.

ACTION: Notice of availability; request for comment and information.

SUMMARY: We, the U.S. Fish and Wildlife Service (Service), have received an application from Alliant Energy's Interstate Power and Light Company and Wisconsin Power and Light Company (Alliant; applicant), for an incidental take permit (ITP) under the Endangered Species Act, for wind facilities in Iowa and Minnesota (project). The applicant requests the ITP for the take of four bat species incidental to the otherwise lawful activities associated with the project. The applicant proposes a conservation program to minimize and mitigate for the unavoidable incidental take as described in their habitat conservation plan (HCP). The Service requests public comment on the application, which includes the applicant's proposed HCP, and the Service's draft environmental assessment, prepared pursuant to the National Environmental Policy Act. The Service provides this notice to seek comments from the public and Federal, Tribal, State, and local governments.

DATES: We will accept comments received or postmarked on or before August 15, 2024.

ADDRESSES:

Obtaining Documents: Electronic copies of the documents this notice announces, along with public comments received, will be available online in Docket No. FWS-R3-ES-2024-0070 at https://www.regulations.gov.

Submitting Comments: If you wish to submit comments on any of the documents, you may do so in writing by one of the following methods:

• Online: https://www.regulations.gov. Follow the instructions for submitting comments on Docket No. FWS-R3-ES-2024-0070.

• U.S. mail: Public Comments Processing, Attn: Docket No. FWS-R3-ES-2024-0070; U.S. Fish and Wildlife Service; 5275 Leesburg Pike, MS: PRB/3W; Falls Church, VA 22041-3803.

FOR FURTHER INFORMATION CONTACT: Kraig McPeek, Field Supervisor, Illinois-Iowa Ecological Services Field Office, by email at kraig_mcpeek@fws.gov or by telephone at 309-757-5800, extension 202; or Andrew Horton, Regional HCP Coordinator, by email at andrew_horton@fws.gov or by telephone at 612-713-5337. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received an application from Alliant Energy's Interstate Power and Light Company and Wisconsin Power and Light Company (Alliant; applicant), for an incidental take permit (ITP) under the Endangered Species Act of 1973, as amended (ESA; 16 U.S.C. 1531 et seq.), for its eight wind facilities in Iowa and one facility in Minnesota (project). The applicant requests the ITP, which would be for a 30-year period, for the take of the four covered bat species in table 1, incidental to the otherwise lawful activities associated with the project.

Table 1—Covered Species
Common name | Scientific name | Federal listing status
Indiana bat | Myotis sodalis | Endangered.
Northern long-eared bat | Myotis septentrionalis | Endangered.
Tricolored bat | Perimyotis subflavus | Proposed endangered.
Little brown bat | Myotis lucifugus | Under review for listing.

The applicant proposes a conservation program to minimize and mitigate for the unavoidable incidental take as described in their habitat conservation plan (HCP). The Service requests public comment on the application, which includes the applicant's proposed HCP, and the Service's draft environmental assessment, prepared pursuant to the National Environmental Policy Act (NEPA; 42 U.S.C. 4321 et seq.). The Service provides this notice to seek comments from the public and Federal, Tribal, State, and local governments.

Background

Section 9 of the ESA and its implementing regulations prohibit the “take” of animal species listed as endangered or threatened. Take is defined under the ESA as to “harass, harm, pursue, hunt, shoot, wound, kill, trap, capture, or collect [listed animal species], or to attempt to engage in such conduct” (16 U.S.C. 1532(19)). However, under section 10(a) of the ESA, we may issue permits to authorize incidental take of listed species. “Incidental take” is defined by the ESA as take that is incidental to, and not the purpose of, carrying out an otherwise lawful activity. Regulations governing incidental take permits for endangered and threatened species, respectively, are found in the Code of Federal Regulations at 50 CFR 17.22 and 50 CFR 17.32.

Applicant's Proposed Project

The applicant requests a 30-year ITP for take of the four covered species in table 1. The applicant determined that the covered activities (operation, refurbishment, and repowering) of the wind projects are reasonably certain to result in incidental take of these covered species. The authorized level of take from the covered activities over the 30-year project duration is expected to be 123 Indiana bats; 246 northern long-eared bats; 2,520 tricolored bats; and 3,536 little brown bats.

The proposed conservation strategy in the applicant's proposed HCP is designed to avoid, minimize, and mitigate the impacts of the covered activities on the covered species. The biological goals and objectives are to minimize potential take of the covered species through on-site minimization measures and to provide habitat conservation measures for the covered species to offset the impact of the taking. On-site minimization measures have been designed based on the apparent risk level of each project, and include feathering turbines when wind is below manufacturer's cut-in speed, below 4.0 meters per second (m/s), and below 5.0 m/s during periods of highest bat risk, as described in table 5.1 in the HCP. Minimization measures will be implemented nightly from sunset to sunrise. To offset the impacts of the taking, the applicant proposes to protect and restore known maternity colony habitat for the covered species. The Service requests public comments on the permit application, which includes a proposed HCP, and an EA prepared in accordance with the National Environmental Policy Act (NEPA; 42 U.S.C. 4321 et seq.).

The applicant's HCP describes the activities that will be undertaken to implement the project, as well as the mitigation and minimization measures proposed to address the impacts to the covered species. Pursuant to NEPA, the EA analyzes the impacts the ITP issuance would have on the covered species and the environment.

National Environmental Policy Act

The issuance of an ITP is a Federal action that triggers the need for compliance with NEPA. We prepared a draft EA that analyzes the environmental impacts on the human environment resulting from three alternatives: A no-action alternative, the applicant's proposed action, and a more restrictive alternative consisting of feathering at a rate of wind speed that results in less impacts to bats.

Next Steps

The Service will evaluate the permit application and the comments received to determine whether the application meets the requirements of section 10(a) of the ESA. We will also conduct an intra-Service consultation pursuant to section 7 of the ESA to evaluate the effects of the proposed take. After considering the above findings, we will determine whether the permit issuance criteria of section 10(a)(l)(B) of the ESA have been met. If met, the Service will issue the requested ITP to the applicant.

Request for Public Comments

The Service invites comments and suggestions from all interested parties during a 30-day public comment period (see DATES). In particular, information and comments regarding the following topics are requested:

• The direct, indirect, or cumulative effects that implementation of any alternative could have on the human environment.

• Whether or not the significance of the impact on various aspects of the human environment has been adequately analyzed.

• Any other information pertinent to evaluating the effects of the proposed action on the human environment.

Availability of Public Comments

You may submit comments by one of the methods shown under ADDRESSES. We will post on https://regulations.gov all public comments and information received electronically or via hardcopy. All comments received, including names and addresses, will become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22) and NEPA (42 U.S.C. 4371 et seq.) and its implementing regulations (40 CFR 1506.6; 43 CFR part 46).

Lori Nordstrom,
Assistant Regional Director, Ecological Services.

[FR Doc. 2024-15594 Filed 7-15-24; 8:45 am]

BILLING CODE 4333-15-P